DEPARTMENT OF ENERGY

Federal Energy Regulatory Commission

[Docket Nos. RM07-16-000; RM01-5-000]

Filing Via the Internet, Electronic Tariff Filings; Notice of eRegistration Recertification Process

Pursuant to the Federal Information Security Management Act,¹ and instructions and guidance provided by Office of Management and Budget (OMB) Circular A-130 ² and National Institute of Standards and Technology (NIST) Special Publication 800-53 with regard to Account Management,³ the Commission will initiate an annual recertification of all eRegistered user email addresses. eRegistered user accounts whose email addresses cannot be validated will be deactivated. Deactivated user accounts will not be able to transact business with the Federal Energy Regulatory Commission without reactivating their account including submitting filings in a docket or receiving notices/updates from any docketed matter. Information on the eRegistration recertification process is available at http://www.ferc.gov/docs-filing/eregistration.asp.

¹ Public Law (Pub. L.) 107-347.

² OMB Circular A-130, Section 8b(3), Securing Agency Information Systems.

³ NIST Special Publication 800-53, Security and Privacy Controls for Federal Information Systems and Organizations.

Take notice that the Commission will initiate the eRegistration recertification process on November 4, 2019. eRegistered users will receive notification by email of the need to recertify and will have thirty days from the notice before their accounts are deactivated.

For more information, contact Timothy Booker, Office of the Executive Director at (202) 502-8845 or send an email to FERCOnline@ferc.gov.

Dated: October 4, 2019.
Nathaniel J. Davis, Sr.,
Deputy Secretary.

[FR Doc. 2019-22179 Filed 10-9-19; 8:45 am]

BILLING CODE 6717-01-P